DEPARTMENT OF HEALTH AND HUMAN SERVICES

Centers for Medicare and Medicaid Services

[Document Identifier: CMS-10057]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. We cannot reasonably comply with the normal clearance procedures because of an unanticipated event and possible public harm.

This document involves CMS initiatives pertaining to family or individual directed community services. To obtain CMS approval, two application methods are offered to enable States to implement the self-directed model. (1) Under section 1915(c) of the Social Security Act, states are allowed to submit a request to the Secretary of Health and Human Services to waive Medicaid requirements to allow provision of home and community-based services as an alternative to Medicaid funded institutional care. (2) Under section 1115 of the Social Security Act, states are allowed to submit a request to the Secretary of Health and Human Services to waive Medicaid requirements for the purpose of an experimental, pilot, or demonstration project which promotes the objective of the Medicaid program. States may select whichever method will be appropriate to the unique design of their specific program.

Independence Plus: A Demonstration Program for Family or Individual Directed Community Services Template Applications facilitate States' provision of self-directed supports and services and promotes DHHS' goals of increasing access to medically necessary services. By using a template, a State will potentially save a great deal of time in applying and be able to provide the services earlier.

CMS is requesting OMB review and approval of this collection by May 22, 2002, with a 180-day approval period. Written comments and recommendation will be accepted from the public if received by the individuals designated below by May 20, 2002.

Type of Information Collection Request: New collection.

Title of Information Collection: Independence Plus: A Demonstration Program for Family or Individual Directed Community Services Template Applications.

Form No.: CMS-10057 (OMB# XXXX).

Use: The Family or Individual Directed Community Services Template Applications will enable states to apply, via a standard format, to provide assistance for families with a member who requires long term supports and services, or individuals who require long term supports and services, so that the individual may remain in the family residence or in their own home.

Frequency: Other: 3 years after initial submission for the 1915 (c) waiver; 5 years after initial submission for the 1115 demonstration.

Affected Public: State Government.

Number of Respondents: 20.

Total Annual Responses: 20.

Total Annual Hours: 100.

We have submitted a copy of this notice to OMB for its review of these information collections. A notice will be published in the Federal Register when approval is obtained.

To obtain copies of the supporting statement and any related forms for the proposed paperwork collections referenced above, access CMS' Web Site address at http://www.hcfa.gov/regs/prdact95.htm, or e-mail your request, including your address, phone number, OMB number, and CMS document identifier, to Paperwork@hcfa.gov, or call the Reports Clearance Office on (410) 786-1326.

Interested persons are invited to send comments regarding the burden or any other aspect of these collections of information requirements. However, as noted above, comments on these information collection and recordkeeping requirements must be mailed and/or faxed to the designees referenced below by May 20, 2002:

Centers for Medicare and Medicaid Services, Office of Information Services, Security and Standards Group, Division of CMS Enterprise Standards, Room N2-14-26, 7500 Security Boulevard, Baltimore, MD 21244-1850, Fax Number: (410) 786-0262, Attn: Julie Brown, CMS-10057,

and,

Office of Information and Regulatory Affairs, Office of Management and Budget, Room 10235, New Executive Office Building, Washington, DC 20503, Attn.: Brenda Aguilar, CMS Desk Officer.

Dated: May 7, 2002.
John P. Burke, III,
Paperwork Reduction Act Team Leader, CMS Reports Clearance Officer, CMS Office of Information Services, Security and Standards Group, Division of CMS Enterprise Standards.

[FR Doc. 02-11963 Filed 5-9-02; 11:04 am]

BILLING CODE 4120-03-P